DEPARTMENT OF ENERGY

Federal Energy Regulatory Commission

Combined Notice of Filings #1

September 29, 2008.

Take notice that the Commission received the following electric corporate filings:

Docket Numbers: EC08-91-001.

Applicants: Horizon Asset Management, Inc.

Description: Horizon Asset Management, Inc submits an Amendment to Petition for Disclaimer of Jurisdiction, or in the Alternative, for Blanket Authorization to Acquire Securities Under Section 203 of the Federal Power Act.

Filed Date: 09/25/2008.

Accession Number: 20080929-0010.

Comment Date: 5 p.m. Eastern Time on Thursday, October 16, 2008.

Take notice that the Commission received the following exempt wholesale generator filings:

Docket Numbers: EG08-92-000.

Applicants: Ashtabula Wind, LLC.

Description: Ashtabula Wind, LLC Amendment to Self-Certification of Exempt Wholesale Generator Status.

Filed Date: 09/15/2008.

Accession Number: 20080915-5141.

Comment Date: 5 p.m. Eastern Time on Monday, October 6, 2008.

Docket Numbers: EG08-95-000.

Applicants: Flat Ridge Wind Energy, LLC.

Description: Amended Notice of Self Certification of Flat Ridge Wind Energy, LLC.

Filed Date: 09/23/2008.

Accession Number: 20080923-5045.

Comment Date: 5 p.m. Eastern Time on Tuesday, October 14, 2008.

Take notice that the Commission received the following electric rate filings:

Docket Numbers: ER07-478-008.

Applicants: Midwest Independent Transmission System.

Description: Midwest Independent Transmission System Operator, Inc submits proposed revisions to the Midwest ISO's Open Access Transmission and Energy Markets Tariff in order to amend its 6/16/08 compliance filing.

Filed Date: 09/26/2008.

Accession Number: 20080929-0101.

Comment Date: 5 p.m. Eastern Time on Friday, October 17, 2008.

Docket Numbers: ER07-1421-004; ER07-1422-004; ER08-549-003; ER08-550-003; ER08-573-002; ER08-574-002.

Applicants: PJM Interconnection, L.L.C.; Virginia Electric and Power Company.

Description: Supplement to Settlement Agreement and Offer of Settlement submitted by Virginia Electric and Power Company d/b/a Dominion Virginia Power.

Filed Date: 09/25/2008.

Accession Number: 20080925-5050.

Comment Date: 5 p.m. Eastern Time on Thursday, October 9, 2008.

Docket Numbers: ER08-867-001.

Applicants: New York Independent System Operator, Inc.

Description: New York Independent System Operator, Inc submits its May 2007 Joint Operating Agreement with the OJM and Schedule C to the JOA.

Filed Date: 09/25/2008.

Accession Number: 20080929-0009.

Comment Date: 5 p.m. Eastern Time on Thursday, October 16, 2008.

Docket Numbers: ER08-1543-001.

Applicants: Southwest Power Pool, Inc.

Description: Southwest Power Pool, Inc submits clean and redlined version of the corrected Attachment E.

Filed Date: 09/25/2008.

Accession Number: 20080929-0008.

Comment Date: 5 p.m. Eastern Time on Thursday, October 16, 2008.

Docket Numbers: ER08-1553-001.

Applicants: PJM Interconnection, L.L.C.

Description: PJM Interconnection, L.L.C. submits the instant errata filing to correct a typographical error in its 9/16/08 filing for an executed interconnection service agreement among PJM, RPL Holdings, Inc and Public Service Electric and Gas Company.

Filed Date: 09/25/2008.

Accession Number: 20080929-0007.

Comment Date: 5 p.m. Eastern Time on Thursday, October 16, 2008.

Docket Numbers: ER08-1575-000.

Applicants: PJM Interconnection, L.L.C.

Description: PJM Interconnection L.L.C. submits revisions to Section 6.8 of Attachment DD of their Open-Access Transmission Tariff.

Filed Date: 09/26/2008.

Accession Number: 20080929-0048.

Comment Date: 5 p.m. Eastern Time on Friday, October 17, 2008.

Docket Numbers: ER08-1576-000.

Applicants: Southern Company Services, Inc.

Description: Gulf Power Company submits a Notice of Cancellation of the Transmission Service Agreement with Bay County, FL.

Filed Date: 09/26/2008.

Accession Number: 20080929-0049.

Comment Date: 5 p.m. Eastern Time on Friday, October 17, 2008.

Docket Numbers: ER08-1577-000.

Applicants: Wolverine Power Supply Cooperative, Inc.

Description: Wolverine Power Supply Cooperative Inc submits new Amended and Restated Wholesale Power Contacts.

Filed Date: 09/26/2008.

Accession Number: 20080929-0103.

Comment Date: 5 p.m. Eastern Time on Friday, October 17, 2008.

Docket Numbers: ER08-1578-000.

Applicants: Mirant California, LLC.

Description: Mirant California, LLC submits notice of cancellation of FERC Electric Tariff, First Revised Volume 1.

Filed Date: 09/26/2008.

Accession Number: 20080929-0104.

Comment Date: 5 p.m. Eastern Time on Friday, October 17, 2008.

Docket Numbers: ER08-1579-000.

Applicants: Duke Energy Carolinas, LLC.

Description: Duke Energy Carolinas, LLC submits Rate Schedule 326 the First Amended and Restated Power Purchase Agreement Between Duke Energy Carolinas, LLC and North Carolina Electric Membership Corporation dated as of 8/11/08.

Filed Date: 09/26/2008.

Accession Number: 20080929-0106.

Comment Date: 5 p.m. Eastern Time on Friday, October 17, 2008.

Docket Numbers: ER08-1580-000.

Applicants: Oklahoma Gas and Electric Company.

Description: Oklahoma Gas and Electric Company submits the Redbud Generating Facility Ownership and Operating Agreement by and Among Grand River Dam Authority.

Filed Date: 09/26/2008.

Accession Number: 20080929-0105.

Comment Date: 5 p.m. Eastern Time on Friday, October 17, 2008.

Docket Numbers: ER08-1581-000.

Applicants: Mint Farm Energy Center LLC.

Description: Mint Farm Energy Center LLC submits a notice of cancellation of their FERC Electric Tariff, Original Volume 1.

Filed Date: 09/26/2008.

Accession Number: 20080929-0102.

Comment Date: 5 p.m. Eastern Time on Friday, October 17, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-23508 Filed 10-3-08; 8:45 am]

BILLING CODE 6717-01-P